DEPARTMENT OF COMMERCE

National Institute of Standards and Technology

National Conference on Weights and Measures 100th Interim Meeting

AGENCY: National Institute of Standards and Technology, Commerce.

ACTION: Notice.

SUMMARY: The 100th Interim Meeting of the National Conference on Weights and Measures (NCWM) will be held in Daytona Beach, Florida, from Sunday, January 18, 2015 through Wednesday, January 21, 2015. This notice contains information about significant items on the NCWM Committee agendas, but does not include all agenda items. As a result, the items are not consecutively numbered.

DATES: The meeting will be held from Sunday, January 18, 2015 through Wednesday, January 21, 2015, meeting schedule is available at www.ncwm.net.

ADDRESSES: This meeting will be held at the Hilton Daytona Beach Oceanfront Resort 100 North Atlantic Avenue, Daytona Beach, Florida 32118.

FOR FURTHER INFORMATION CONTACT: Ms. Carol Hockert, Chief, NIST, Office of Weights and Measures, 100 Bureau Drive, Stop 2600, Gaithersburg, MD 20899-2600. You may also contact Ms. Hockert at (301) 975-5507 or by email at carol.hockert@nist.gov. The meeting is open to the public, but a paid registration is required. Please see NCWM Publication 15 “Interim Meeting Agenda” (www.ncwm.net) to view the meeting agendas, registration forms, and hotel reservation information.

SUPPLEMENTARY INFORMATION: Publication of this notice on the NCWM's behalf is undertaken as a public service; NIST does not endorse, approve, or recommend any of the proposals or other information contained in this notice or in the publications of the NCWM.

The NCWM is an organization of weights and measures officials of the states, counties, and cities of the United States, federal agencies, and representatives from the private sector. These meetings bring together government officials and representatives of business, industry, trade associations, and consumer organizations on subjects related to the field of weights and measures technology, administration, and enforcement. NIST participates to encourage cooperation between federal agencies and the states in the development of legal metrology requirements. NIST also promotes uniformity among the states in laws, regulations, methods, and testing equipment that comprise the regulatory control of commercial weighing and measuring devices, packaged goods, and other trade and commerce issues.

The following are brief descriptions of some of the significant agenda items that will be considered at the NCWM Interim Meeting. Comments will be taken on these and other issues during several public comment sessions. At this stage, the items are proposals. This meeting also includes work sessions in which the Committees may also accept comments, and where recommendations will be developed for consideration and possible adoption at the NCWM 2015 Annual Meeting. The Committees may withdraw or carryover items that need additional development. The 100th Annual Meeting of the NCWM will be held July 19 to 23, 2015, at The Sheraton Philadelphia Society Hill Hotel, 1 Dock Street, Philadelphia, Pennsylvania 19106.

Some of the items listed below provide notice of projects under development by groups working to develop specifications, tolerances, and other requirements for devices used in the retail sales of engine fuels and the establishment of approximate gallon and liter equivalents to diesel fuel that would be used in marketing both compressed and liquefied natural gas. These notices are intended to make interested parties aware of these development projects and to make them aware that reports on the status of the project will be given at the Interim Meeting. The notices are also presented to invite the participation of manufacturers, experts, consumers, users, and others who may be interested in these efforts.

The Specifications and Tolerances Committee (S&T Committee) will consider proposed amendments to NIST Handbook 44, “Specifications, Tolerances, and other Technical Requirements for Weighing and Measuring Devices.” Those items address weighing and measuring devices used in commercial applications, that is, devices that are used to buy from or sell to the public or used for determining the quantity of products or services sold among businesses. Issues on the agenda of the NCWM Laws and Regulations Committee (L&R Committee) relate to proposals to amend NIST Handbook 130, “Uniform Laws and Regulations in the area of Legal Metrology and Engine Fuel Quality” and NIST Handbook 133, “Checking the Net Contents of Packaged Goods.”

NCWM Specifications and Tolerances Committee

The following items are proposals to amend NIST Handbook 44:

Scales (including weigh-in-motion vehicle scales for use in the enforcement of highway load limits)

Item 320-4 Weigh-in-Motion Vehicle Scales for Use in Highway Weight Enforcement

The S&T Committee will consider recommending adoption of a new code to be included in NIST Handbook 44 that will include the specifications, tolerances, and other technical requirements for the vehicle scales used by highway weight enforcement agencies to determine the axle weights and gross weights of trucks and other large highway vehicles while they are in motion. The proposed code includes recommended tests and tolerances for static and dynamic weighing modes as well as user requirements that will ensure devices are maintained properly, allowing weighing results to be used to carry out highway weight enforcement programs across the nation.

Belt-Conveyor Scale Systems

Item 321-1 Belt-Conveyor Scale Systems

Belt-conveyor scales are used in a wide variety of applications for weighing coal, grain, ore, and many other raw materials or products. Currently, only scales that are fully integrated into a conveyor system are permitted under NIST Handbook 44. The S&T Committee will consider adoption of new definitions and proposals to broaden the scope of the requirements to allow fully “self-contained weigh-belt systems” to be covered by the specifications, tolerances, and other technical requirements in NIST Handbook 44 so these devices may be utilized in commercial transactions.

Automatic Bulk Weighing Systems

Item 322-1 N.1. Testing Procedures

The S&T Committee will consider a proposal to change the test procedures and tolerances for automatic bulk weighing systems to reflect that these devices are generally operating in a “dynamic” mode when commercial weight determinations are made. When these devices weigh in a “dynamic” mode, the accuracy of the weighment can be affected by many additional factors (e.g., vibration, mechanical timing of the systems' filling and emptying mechanisms); this may result in differences when compared to the weight determinations obtained in “static” weighing mode. The proposed procedures require “as used” testing to verify the accuracy of these devices. Requiring “as used” testing would improve the weighing accuracy of these devices and bring this code into agreement with requirements in other NIST Handbook 44 codes where dynamic weighing is allowed.

Liquid Measuring Devices

Item 330-2 S.2.2. Categories of Device and Methods of Sealing

The S&T Committee will consider a proposal that would allow device manufacturers to supply required security and configuration related data in “event loggers” (i.e., digital systems that keep track of the number of times a calibration event occurs) to weights and measures officials and service personnel utilizing digital communications (e.g., cellular or Internet connections) or other electronic means (e.g., USB flash memory drive) in lieu of providing a printed record. This information is used to ascertain how many and what type of calibrations and configuration changes were made to a weighing and measuring device since the last official inspection or service. The S&T Committee will evaluate the costs, practicality, and other aspects of the proposal in addition to considering the data security and privacy concerns that may arise if this proposal is adopted.

Item 330-3 N.4.1.3. Normal Tests on Wholesale Multi-Point Calibration Devices

The S&T Committee will consider a proposal to update the Liquid-Measuring Devices Code to include test procedures that recognize technological advances in meter calibration and improve the accuracy of meters used to measure petroleum, chemicals, and other liquids. The intent of the proposal is to prescribe test procedures for meters with multi-point calibration (i.e., their measurement accuracy is adjusted to account for variations in volume, which result from the meter being operated at different flow rates). The S&T Committee will also consider requirements that will govern how users utilize the optional features found on these systems. See also Item 331-1 which addresses these features on vehicle-tank meters used to measure products such as home heating fuel and other fuel deliveries.

Liquefied Petroleum Gas and Anhydrous Ammonia Liquid-Measuring Devices

Item 332-2 N.3. Test Drafts—Use of Transfer Standards for Calibration and Verification

The S&T Committee will consider a proposal to recognize the use of calibrated transfer standards (also called “master meters”) in the verification and calibration of Liquefied Petroleum Gas and Anhydrous Ammonia Liquid-Measuring Devices. Currently, most official tests of these devices are conducted using volumetric test measures or using gravimetric testing. Adoption of this proposal, which includes requirements for a minimum test draft, would allow the use of “master meters” in both service-related and official testing. The S&T Committee will also consider expanding the use of transfer standards to other types of measuring devices, including those used to measure petroleum at terminals and retail outlets and to meters used to deliver home heating fuel and other products.

Mass Flow Meters

Item 337-1 Diesel Energy Equivalents for Compressed and Liquefied Natural Gas

Natural gas is sold in the marketplace in both compressed (CNG) and liquefied (LNG) states as alternative fuel choices to gasoline and diesel fuel. The S&T Committee will consider proposed revisions to NIST Handbook 44 to define volume units for CNG and LNG in terms of the energy equivalents for a liter or gallon of diesel fuel. The availability of these values should enable consumers to compare the cost and mileage economy of different fuels so enable informed purchasing decisions when considering the use, purchase, or lease of vehicles equipped to operate on different fuels.

Taximeters (and GPS Devices When Used in Transportation Services)

Items 354-1, 354-2, 354-3, 354-4, and 354-5

The S&T Committee will consider this group of proposals (listed above) which includes proposed revisions and updates to the Taximeter Code in NIST Handbook 44 to address changes in technology related to indicating and recording elements (i.e., printers) and operational features including the indications required to be presented to passengers.

Item 354-6 U.S. National Working Group on Taximeters and Global Positioning System-Based Systems for Time and Distance Measurement

The S&T Committee will consider a progress report from a national working group that is studying the use of Global Positioning Systems and smart phone/web based applications in transportations services in order to develop proposed specifications, tolerances, and other technical requirements to ensure accuracy and transparency for passengers, drivers, and businesses for inclusion in NIST Handbook 44.

Other Items

Item 360-1 Proposed Definition for a “Batching System”

The S&T Committee will consider a proposed definition for “batching systems.” These systems are used daily in a wide variety of industries to produce concrete (sold by the cubic yard) used in buildings, bridge and highway construction, and “blacktop” or asphalt pavement (sold by the short ton) used for road surfaces. Batching systems are also used in the production of animal food, agricultural seed and many other commodities. These systems (which can operate automatically or manually) often include multiple components such as weighing and measuring devices, which fall under different codes in NIST Handbook 44. When these multiple-component systems are used, it is sometimes difficult to categorize the system as a whole as a scale, a measuring device, or an automatic weighing system. Confusion over what requirements to apply from the various codes sometimes occurs. The definition is intended to clarify that weights and measures officials and users may apply different NIST Handbook 44 codes to the components of a batching system without classifying the device as an “automatic bulk weighing system” because that code includes operational and other requirements that manufacturers may not design a system to meet. See also Items 320-1—A.1. General; 324-1—A.1. General; and 330-1—A.1. General.

Item 360-5 Electric Vehicle Fueling and Submetering

The S&T Committee will consider recommending adoption of a draft code for use in electric vehicle charging and submetering for inclusion in NIST Handbook 44. The code was developed by a national working group that continues to further refine the specifications, tolerances, and other technical requirements to ensure accuracy and transparency for drivers of electric vehicles and power resellers. The S&T Committee will also consider proposed changes to the section 5.55. “Timing Devices” in NIST Handbook 44 to address requirements for the timing mechanisms that are likely to be used in some recharging systems to determine additional charges for other services (e.g., parking).

NCWM Laws and Regulations Committee (L & R Committee)

The following items are proposals to amend NIST Handbook 130 or NIST Handbook 133:

NIST Handbook 130—Section on Uniform Regulation for the Method of Sale of Commodities

Item 232-3 Animal Bedding

Animal Bedding is generally defined as any material, except for baled straw, that is kept, offered or exposed for sale or sold to retail consumers for primary use as a medium for any pet or companion or livestock animal to nest or eliminate waste. The purpose of this proposal is to provide a uniform method of sale for animal bedding that will enhance the ability of consumers to make value comparisons and will ensure fair competition. If adopted, the proposal will require packers to advertise and sell packages of animal bedding on the basis of the expanded volume of the bedding. Most packages of animal bedding are compressed during packaging and the expanded volume is the amount of product that consumers will recover through unwrapping and decompressing the bedding according to the instructions provided by the packer. See also Item 260-3 for proposed Test Procedures for Verifying the Expanded Volume Declaration on Packages of Animal Bedding

NIST Handbook 133—“Checking the Net Contents of Packaged Goods”

Item 260-1 Chitterling Test Procedure

This proposal will add a test procedure and purge allowance to NIST Handbook 133 so that the drainage equipment and methods used by state and local weights and measures officials are identical to those used by the Food Safety and Inspection Service of the U.S. Department of Agriculture (USDA) in packing plants. Currently neither a purge allowance nor test procedure are contained in the handbook so state and local weights and measures inspectors use a modified test procedure developed for frozen seafood and information provided in a USDA response to a consumer inquiry to carry out inspections of these food products. This test procedure will also be used in verifying the amount of purge from beef tripe.

Dated: December 30, 2014.
Willie E. May,
Acting Director.

[FR Doc. 2015-00020 Filed 1-6-15; 8:45 am]

BILLING CODE 3510-13-P